DEPARTMENT OF TRANSPORTATION

Federal Motor Carrier Safety Administration

[Docket No. FMCSA-2019-0269]

Agency Information Collection Activities; Renewal of a Currently-Approved Information Collection: Request for Revocation of Authority Granted

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. FMCSA requests approval to renew an ICR titled “Request for Revocation of Authority Granted.”

DATES: We must receive your comments on or before February 18, 2020.

ADDRESSES: You may submit comments identified by Federal Docket Management System (FDMS) Docket Number FMCSA-2019-0269 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Jeff Secrist, Office of Registration and Safety Information, Department of Transportation, Federal Motor Carrier Safety Administration, West Building 6th Floor, 1200 New Jersey Avenue SE, Washington, DC 20590. Telephone: 202-385-2367; email jeff.secrist@dot.gov.

SUPPLEMENTARY INFORMATION:

Background: FMCSA registers for-hire motor carriers of regulated commodities under 49 U.S.C. 13902, surface freight forwarders under 49 U.S.C. 13903, and property brokers under 49 U.S.C. 13904. Each registration is effective from the date specified under 49 U.S.C. 13905 (c).

Subsection (d) of 49 U.S.C. 13905 also provides that on application of the registrant, the Secretary may amend or revoke a registration, and hence the registrant's operating authority. Form OCE-46 allows these registrants to apply voluntarily for revocation of their operating authority or parts thereof. If the registrant fails to maintain evidence of the required level of insurance coverage on file with FMCSA, its operating authority will be revoked involuntarily. Although the effect of both types of revocation is the same, some registrants prefer to request voluntary revocation. For various business reasons, a registrant may request revocation of some part, but not all, of its operating authority.

This information collection, which supports the DOT Strategic Goal of Safety, is being revised to reflect modified estimates of burden hours and costs. For respondents, the program adjustment has resulted in increased total burden hours and an increase in respondent costs. The burden hour increase is due to an estimated increase in the number of annual filings of Form OCE-46 from 3,501 to 5,901 per year, resulting in an increase of 2,400 responses and 600 burden hours.

The previous iteration of this ICR did not include estimated labor costs for respondents; it only reported the estimated annual burden hours. This version adds estimated labor costs according to best practices. The estimated annual labor cost for industry resulting from submitting Form OCE-46 is $49,527.

The total annual respondent cost has decreased by $20,190. This decrease is due to the fact that respondents may now file the form online, at no charge. While the online submission option exists, FMCSA still estimates that approximately 1,567 respondents will continue to file the form by mail, which incurs notarization and postage fees.

For the Federal Government, the program costs have increased by $11,176. While this ICR revised the Federal labor wage load factor downward to be consistent with the methodology used in other FMCSA ICRs, the overall cost to the Federal Government increased due to the increase in the number of forms received by FMCSA.

Title: Request for Revocation of Authority Granted.

OMB Control Number: 2126-0018.

Type of Request: Renewal of a currently approved information collection.

Respondents: For-hire motor carriers, freight forwarders, and property brokers.

Estimated Number of Respondents: 5,901.

Estimated Time per Response: 15 minutes (0.25 hours).

Expiration Date: September 30, 2020.

Frequency of Response: Other (as needed).

Estimated Total Annual Burden: 1,475 hours.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this information collection.

Issued under the authority of 49 CFR 1.87 on: December 11, 2019.
Kelly Regal,
Associate Administrator for Office of Research and Information Technology.

[FR Doc. 2019-27257 Filed 12-17-19; 8:45 am]

BILLING CODE 4910-EX-P